COMMISSION ON CIVIL RIGHTS

Notice of Public Meeting of the West Virginia Advisory Committee to the U.S. Commission on Civil Rights

AGENCY: U.S. Commission on Civil Rights.

ACTION: Announcement of meetings.

SUMMARY: Notice is hereby given, pursuant to the provisions of the rules and regulations of the U.S. Commission on Civil Rights (Commission) and the Federal Advisory Committee Act, that the West Virginia Advisory Committee (Committee) to the U.S. Commission on Civil Rights will hold project planning meetings via Zoom on the following dates and times: Thursday, September 1 at 1:00 p.m. ET; Thursday, October 6 at 1:00 p.m. ET; Thursday, November 3 at 1:00 p.m. ET; Thursday, December 1 at 1:00 p.m. ET. The purpose of these meetings is to continue discussing the Committee's project on disparate school discipline policies and practices in West Virginia public schools. Each business meeting will last for approximately one hour.

DATES: Thursday, September 1 at 1:00 p.m. ET; Thursday, October 6 at 1:00 p.m. ET; Thursday, November 3 at 1:00 p.m. ET; Thursday, December 1 at 1:00 p.m. ET.

Meeting Link (Audio/Visual): https://tinyurl.com/2nbe5vv7.

Telephone (Audio Only): Dial (833) 435-1820 USA Toll Free; Meeting ID: 161 655 9666.

FOR FURTHER INFORMATION CONTACT: Ivy Davis, DFO, at idavis@usccr.gov or (202) 376-7533.

SUPPLEMENTARY INFORMATION: Committee meetings are available to the public through the conference link above. Any interested member of the public may listen to the meeting. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at (800) 877-8339 and providing the Service with the conference details found through registering at the web link above. To request additional accommodations, please email idavis@usccr.gov at least ten (10) days prior to the meeting.

Members of the public are also entitled to submit written comments; the comments must be received in the regional office within 30 days following the meeting. Written comments may be emailed to idavis@usccr.gov. Persons who desire additional information may contact the Regional Programs Coordination Unit at (312) 353-8311.

Records generated from this meeting may be inspected and reproduced at the Regional Programs Coordination Unit Office, as they become available, both before and after the meeting. Records of the meeting will be available via www.facadatabase.gov under the Commission on Civil Rights, West Virginia Advisory Committee link. Persons interested in the work of this Committee are directed to the Commission's website, http://www.usccr.gov, or may contact the Regional Programs Coordination Unit at the above phone number.

Agenda

I. Roll Call

II. Welcome

III. Project Planning

IV. Other Matters

V. Next Meeting

VI. Public Comments

VII. Adjourn

Dated: August 24, 2022.
David Mussatt,
Supervisory Chief, Regional Programs Unit.

[FR Doc. 2022-18577 Filed 8-29-22; 8:45 am]

BILLING CODE P